TENNESSEE VALLEY AUTHORITY

Establishment of Regional Resource Stewardship Council

Notice is hereby given that, in consultation with the General Services Administration, it has been determined that the establishment of an advisory committee on the Tennessee Valley Authority's (TVA) public resource management activities is necessary and in the public interest. Accordingly, TVA has chartered the Regional Resource Stewardship Council (RRSC).

The public resource management activities that will be addressed by the RRSC include the operations of TVA's dams and reservoirs, navigation, flood control, the management of public lands, as well as water quality, wildlife, and recreation. As competition for finite natural resources grows, fulfilling TVA's integrated resource stewardship mission will require increased cooperation with the other public agencies and private entities that have responsibilities for and interest in the use and conservation of the region's natural resources. It is in TVA's interest and the interest of the public it serves to establish a mechanism for routinely obtaining the views and advice of the citizens, public agencies, and private entities involved in and affecting natural resources stewardship.

All TVA stewardship activities entail the selection of priorities among competing objectives and values. TVA has many loyal and committed stakeholder groups and private citizens, each dedicated to seeing that TVA provides the public benefits that they have come to expect. TVA anticipates that the RRSC will provide a mechanism to help develop consensus views and resolve competing interests to the benefit of the public.

In order to attain a diverse and balanced membership, the RRSC will consist of up to 20 members appointed by the TVA Board of Directors as follows:

• 7 persons nominated by the Governors of the Tennessee river Valley States (one each by the Governors of Alabama, Georgia, Kentucky, Mississippi, North Carolina, Tennessee, and Virginia);

• At least 4 members representing distributors of TVA power;

• At least 1 member representing each of the following interests: a direct-served customer of TVA, a beneficiary of TVA's navigation program, a beneficiary of TVA's flood control program, a recreational interest, and an environmental interest; and

• Up to 4 additional members to ensure a balanced representative of a broad range of views.

The RRSC will function solely as an advisory body and in compliance with the provisions of the Federal Advisory Committee Act. Its charter is being filed at this time in accordance with approval by the General Service Administration Secretariat pursuant to 41 CFR 101-6.1015(a)(2).

For further information, please contact Kathryn J. Jackson, Executive Vice President, River System Operations and Environment, 400 West Summit Hill Drive, Knoxville, Tennessee, 37902.

Authority: 41 CFR 101-6.1015(a).

Dated: February 3, 2000.
O.J. Zeringue,
President and Chief Operating Officer.

[FR Doc. 00-3271 Filed 2-10-00; 8:45 am]

BILLING CODE 8120-08-M